DEPARTMENT OF TRANSPORTATION

Transportation Security Administration

49 CFR Part 1540

Prohibited Items; Correction

AGENCY: Transportation Security Administration (TSA), DOT.

ACTION: Interpretive rule; correction.

SUMMARY: This document makes a correction to the interpretive rule published in the Federal Register on February 14, 2003 (68 FR 7444), which provides guidance to the public on the types of property TSA considers to be weapons, explosives, and incendiaries that are prohibited in airport sterile areas and in the cabins of aircraft under the TSA regulations and the types of items that are permitted in sterile areas, the cabins of passenger aircraft, and in passengers' checked baggage. The TSA erroneously included the words “non-refillable” in the discussion of lighters under “Permitted Items; Medical and Personal Items.” This document removes this wording and clarifies the type of gas lighter permitted. In addition, TSA erroneously included in the interpretation a paragraph listing “Other items” allowed to be transported in checked baggage. Because these items are not allowed in checked baggage, this document removes that paragraph.

EFFECTIVE DATE: February 28, 2003.

FOR FURTHER INFORMATION CONTACT: For technical questions contact Vicky Skelly, Aviation Security Specialist, Air Carrier Division, Office of Aviation Security Policy, TSA-9, Transportation Security Administration, 400 Seventh Street, SW., Washington, DC 20590; telephone (571) 227-2641, e-mail Vicky.skelly@tsa.dot.gov. Legal questions may be directed to Ellen Siegler, Attorney, TSA-2, Chief Counsel; telephone (571) 227-2723, e-mail ellen.siegler@tsa.dot.gov.

SUPPLEMENTARY INFORMATION: On February 14, 2003 (68 FR 7444), TSA published an interpretive rule providing guidance on the types of property that TSA considers to be weapons, explosives, and incendiaries prohibited in airport sterile areas and in the cabins of aircraft under the TSA regulations. The interpretive rule also explained that certain items that are prohibited in sterile areas and cabins may be transported in checked baggage.

In the last sentence of the ending paragraph of the preamble discussion on permitted items (page 7446, first column, last sentence), as well as in the interpretation, on page 7446, in the third column, paragraph II.A.(9) erroneously included the words “non-refillable” to describe liquefied gas lighters. As both non-refillable (disposable) and refillable lighters (such as Colibri, Dunhill, and Ronson) are filled with liquefied butane gas and are equivalent from a security perspective, there is no reason to allow passengers to carry only non-refillable lighters of this type. Therefore, the words “non-refillable” have been removed and a clarifying reference to refillable, “Colibri-type” lighters has been inserted.

In the interpretation, on page 7447, in the first column, paragraph III.(6) erroneously listed the following as “Other items” that may be carried in checked baggage pursuant to strict conditions imposed by 49 CFR part 175: compressed air guns, fire extinguishers, flare pistols, and gun lighters. None of these items may be carried as checked baggage and should not have been included in this listing. Accordingly, this provision has been deleted from the interpretive rule.

Correction

In interpretive rule FR Doc. 03-3755, published on February 14, 2003 (68 FR 7444), make the following corrections:

1. On page 7446, in the first column, line 21, last sentence of preamble discussion paragraph on “Permitted Items,” is corrected to read as follows:

“Consistent with Department of Transportation regulations for hazardous materials, passengers also are permitted to carry no more than four books of matches (other than strike-anywhere matches) and no more than two lighters for individual use, if the lighters are fueled with liquefied gas (BIC-or Colibri-type) or absorbed liquid (Zippo-type).”

2. On page 7446, in the third column, paragraph II.A.(9) is corrected to read as follows:

“Lighters (maximum of two), fueled with liquefied gas (BIC-or Colibri-type) or absorbed liquid (Zippo-type).”

3. On page 7447, in the first column, remove the full paragraph III.(6), which begins “Other items. Compressed air guns, * * *”.

Issued in Washington, DC, on February 26, 2003.
Mardi Ruth Thompson,
Deputy Chief Counsel for Regulations.

[FR Doc. 03-4920 Filed 2-28-03; 8:45 am]

BILLING CODE 4910-22-P